DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology, U.S. Department of Commerce.

Title: Proposed Information Collection; Comment Request; Safety and Health Data.

OMB Control Number: 0693-XXXX.

Form Number(s): None.

Type of Request: Regular submission, new information collection.

Number of Respondents: 450

Average Hours per Response: 5 minutes per response.

Burden Hours: 37.5

Needs and Uses: The National Institute of Standards and Technology (NIST) has identified a need for OMB approval for a myriad of health and safety forms. NIST is a unique federal campus which hosts daily a range of non-federal individuals. In order to provide these individuals with proper care and health and safety documentation, NIST is pursuing a general clearance for these forms.

Affected Public: Some associates, volunteers, and visitors to NIST.

Frequency: As needed.

Respondent's Obligation: Many of the forms will be voluntarily completed on an as needed basis by non-federal individuals. For example, if a visitor falls ill while visiting campus, they may seek care at the health unit and may opt in or out of completing the forms. NIST, however, does have some instances where the completion of forms will be mandatory due to potential high level public safety issues. There may also be documentation based on requirements for OSHA compliance.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental PRA Lead, Office of the Chief Information Officer.

[FR Doc. 2017-20481 Filed 9-25-17; 8:45 am]

BILLING CODE 3510-13-P